DEPARTMENT OF HOMELAND SECURITY

Coast Guard

33 CFR Part 100

[Docket No. USCG-2022-0729]

Special Local Regulations; Clearwater Offshore Nationals/Race World Offshore, Gulf of Mexico, Clearwater, FL

AGENCY: Coast Guard, DHS.

ACTION: Notification of enforcement of regulation.

SUMMARY: The Coast Guard will enforce a special local regulation on the waters of the Gulf of Mexico, in the vicinity of Clearwater, Florida, during the Clearwater Offshore Nationals/Race World Offshore. Approximately 50 powerboats traveling at speeds in excess of 100 miles per hour are expected to participate. Additionally, it is anticipated that 500 spectator vessels will be present along the race course. The special local regulation is necessary to protect the safety of race participants, participant vessels, spectators, and the general public on certain navigable waters of the Gulf of Mexico, Clearwater, Florida during the event. The special local regulation will establish an enforcement area where all persons and vessels, except those persons and vessels participating in the high-speed boat races, are prohibited from entering, transiting through, anchoring in, or remaining within the regulated area without obtaining permission from the Captain of the Port St. Petersburg or a designated representative.

DATES: The regulations in 33 CFR 100.703 will be enforced from 11:30 a.m. until 4 p.m., on September 25, 2022, for the location identified in Item 6 in Table 1 to § 100.703.

FOR FURTHER INFORMATION CONTACT: If you have questions about this notification of enforcement, call or email Marine Science Technician Second Class Regina Cuevas, Sector St. Petersburg Prevention Department, Coast Guard; telephone (813) 228-2191, email Regina.L.Cuevas@uscg.mil.

SUPPLEMENTARY INFORMATION: The Coast Guard will enforce the special local regulations in 33 CFR 100.703, Table 1 to § 100.703, Item No. 6, for the Clearwater Offshore Nationals/Race World Offshore regulated area from 11:30 a.m. until 4 p.m., on September 25, 2022. This action is being taken to provide for the safety of life on navigable waterways during this event. Our regulation for recurring marine events, Sector St. Petersburg, § 100.703, Table 1 to § 100.703, Item No. 6, specifies the location of the regulated area for the Clearwater Offshore Nationals/Race World Offshore which encompasses portions of the Gulf of Mexico near Clearwater, FL. During the enforcement periods, as reflected in § 100.703(c), if you are the operator of a vessel in the regulated area you must comply with directions from the Patrol Commander or any designated representative.

In addition to this notice of enforcement in the Federal Register, the Coast Guard plans to provide notification of this enforcement period via the Local Notice to Mariners, marine information broadcasts, or both.

Dated: September 2, 2022.
Michael P. Kahle,
Captain, U.S. Coast Guard, Captain of the Port St. Petersburg.

[FR Doc. 2022-19554 Filed 9-9-22; 8:45 am]

BILLING CODE 9110-04-P